DEPARTMENT OF LABOR

Employment and Training Administration

[TA-W-65,603]

CMI Equipment and Engineering Au Gres, MI; Notice of Termination of Investigation

Pursuant to Section 221 of the Trade Act of 1974, as amended, an investigation was initiated on March 16, 2009 in response to a worker petition filed on behalf of workers of CMI Equipment and Engineering, Au Gres, Michigan.

The petitioners have requested that the petition be withdrawn. Consequently, the investigation has been terminated.

Signed at Washington, DC, this 27th day of March 2009.
Richard Church,
Certifying Officer, Division of Trade Adjustment Assistance.

[FR Doc. E9-10230 Filed 5-4-09; 8:45 am]

BILLING CODE; P